DEPARTMENT OF LABOR

Employment and Training Administration

[TA-W-81,414]

TE Connectivity, CIS-Appliances Division, Including On-Site Leased Workers From Kelly Services, Jonestown, Pennsylvania; Notice of Negative Determination on Reconsideration

On September 28, 2012, the Department of Labor issued an Affirmative Determination Regarding Application for Reconsideration for the workers and former workers of TE Connectivity, CIS-Appliances Division, Jonestown, Pennsylvania (hereafter referred to as “the subject firm”). The workers are engaged in activities related to the production of electronic components and the supply of administrative support services (in support of production). The worker group includes on-site leased workers from Kelly Services.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial investigation resulted in a negative determination based on the Department's findings of no increased imports by the subject firm of articles like or directly competitive with the electronic components produced by the subject workers. Further, aggregate imports of articles like or directly competitive with electronic components decreased during the relevant period. The investigation also revealed that the subject firm did not shift the production of electronic components, or a like or directly competitive article, to a foreign country or acquire such production from a foreign country. In addition, the investigation revealed that the subject firm is not a Supplier or Downstream Producer for a firm (or subdivision) that employed a group of workers who received a certification of eligibility under Section 222(a) of the Trade Act of 1974, as amended, 19 U.S.C. 2272(a), and that the group eligibility requirements under Section 222(e) of the Trade Act of 1974, as amended, have not been satisfied.

In the request for reconsideration, the worker supplied new information regarding a possible shift in the production of like or directly competitive articles to Mexico and/or China. Specifically, the workers alleged that they trained employees from facilities in Mexico and China and that dies were shifted to Mexico and China.

During the reconsideration investigation, the subject firm company official confirmed that the workers of the subject firm were engaged in activities related to the production of electronic components, and that some of the workers performed administrative support services in support of production.

The reconsideration investigation revealed that, although the subject firm shifted a portion of production to Mexico and China, the shift in production represented a negligible portion of overall production volume and, therefore, did not contribute importantly to worker separations or threat of separations.

The Department also obtained information regarding the allegation of additional production being shifted to a foreign country. Specifically, the subject firm addressed the petitioner allegations in regard to training workers from other countries. The subject firm confirmed that the training was part of an effort to increase the skill level of employees across TE Connectivity. The Department also confirmed that, during 2010 to present, the subject firm did not shift any additional production or services, like or directly competitive with the articles and services produced and performed by the workers of the subject firm to Mexico, China, or any other country, nor is a shift in production or services scheduled to occur.

The Department also reviewed the Trade Adjustment Assistance (TAA) certification of affiliated worker groups and confirmed that the subject firm does not produce any articles or perform any services like or directly competitive with those produced or supplied by worker groups eligible to apply for TAA.

The reconsideration investigation also revealed no increased imports by the subject firm of articles or services like or directly competitive with articles and services produced or performed by the workers of the subject firm. The subject firm also confirmed that they did not contract to have like or directly competitive articles or services produced or performed in a foreign country.

The subject firm confirmed that they do not supply components or services nor do they perform any finishing services for any of TAA certified locations; hence, the subject firm is not a Supplier, nor does it act as a Downstream Producer for, a firm (or subdivision, whichever is applicable) that employed a group of workers who received a certification of eligibility under Section 222(a) of the Act, 19 U.S.C. 2272(a), and that the group eligibility requirements under Section 222(e) of the Act have not been satisfied.

Therefore, after careful review of the request for reconsideration, the Department determines that 29 CFR 90.18(c) has not been met.

Conclusion

After careful review, I determine that the requirements of Section 222 of the Act, 19 U.S.C. 2272, have not been met and, therefore, deny the petition for group eligibility of TE Connectivity, CIS-Appliances Division, Jonestown, Pennsylvania, to apply for adjustment assistance, in accordance with Section 223 of the Act, 19 U.S.C. 2273.

Signed in Washington, DC, on this 5th day of June, 2013.
Del Min Amy Chen,
Certifying Officer, Office of Trade Adjustment Assistance.

[FR Doc. 2013-14852 Filed 6-20-13; 8:45 am]

BILLING CODE 4510-FN-P